DEPARTMENT OF HEALTH AND HUMAN SERVICES

National Institutes of Health

Proposed Collection; Comment Request; Survey of NHLBI Constituents' Health Information Needs and Preferred Formats

SUMMARY: In compliance with the requirement of Section 3506(c)(2)(A) of the Paperwork Reduction Act of 1995, for opportunity for public comment on proposed data collection projects, the National Heart, Lung and Blood Institute (NHLBI), the National Institutes of Health (NIH) will publish periodic summaries of proposed projects to be submitted to the Office of Management and Budget (OMB) for review and approval.

Proposed Collection: Title: Survey of NHLBI Constituents' Health Information Needs and Preferred Formats. Type of Information Collection Request: NEW. Need and Use of Information Collection: The purpose of this survey is to obtain information from NHLBI constituents (health professionals, patients and their families, and the general public) for the purpose of evaluating their health information and education needs and format preferences. The Consumer Services Team (CST) will use the data collected in this survey to create a 3-year Strategic Plan. The findings from the survey, described in the Strategic Plan, will be used to develop new health information materials for NHLBI constituents and to revise materials currently in the Institute's portfolio. Frequency of Response: Once every 3 years. Affected Public: Individuals. Type of Respondents: Individuals who have been consumers of NHLBI information within the past 3 years. The annual reporting burden is as follows: Estimated Number of Respondents: 2,450; Estimated Number of Responses per Respondent: 1; Average Burden Hours Per Response: 0.2; and Estimated Total Annual Burden Hours Requested: 162. The annualized cost to respondents is estimated at: $3,518.62. There are no Capital Costs, Operating Costs, and/or Maintenance Costs to report.

Type of respondents | Estimated number of respondents | Estimated number of responses per respondent | Average burden hours per response | Estimated total annual burden hours requested
General Public | 1,075 | 0.33 | 0.2 | 71
Private Companies | 332 | 0.33 | 0.2 | 22
Public Sector Groups | 332 | 0.33 | 0.2 | 22
Health Professionals | 711 | 0.33 | 0.2 | 47
Totals | 2,450 |  |  | 162

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION: To request more information on the proposed project or to obtain a copy of the data collection plans and instruments, contact Dr. Ann M. Taubenheim, Principal Investigator, National Heart, Lung, and Blood Institute, Office of Communications and Legislative Activities, NIH, 31 Center Drive, Building 31, Room 4A10, Bethesda, MD 21045, or call non-toll-free number 301-496-4236 or e-mail your request, including your address, to taubenha@nhlbi.nih.gov.

Comments Due Date: Comments regarding this information collection are best assured of having their full effect if received within 60 days of the date of this publication.

Dated: March 11, 2009.
Ann M. Taubenheim,
Principal Investigator, NHLBI.

[FR Doc. E9-6052 Filed 3-18-09; 8:45 am]

BILLING CODE 4140-01-P